DEPARTMENT OF COMMERCE

International Trade Administration

Applications for Duty-Free Entry of Scientific Instruments

Pursuant to Section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5 p.m. at the U.S. Department of Commerce, Room 2104, 14th and Constitution Ave., NW., Washington, DC.

Docket Number: 06-054. Applicant: Purdue University, 465 Northwestern Ave., West Lafayette, IN 47907-2035. Instrument:DBF Fiber Laser System. Manufacturer: Koheras A/S, Denmark. Intended Use: The instrument is intended to be used to study and formulate the physical description of the fundamental noise properties of optical frequency combs and their application to Optical Arbitrary Waveform Generation. An ultra-narrow (1 kHz optical linewidth) CW laser is needed to sweep the carrier frequency and beat it with a conventional mode-locked laser based optical frequency comb. The CW laser also provides a 60 pm fast piezo tuning range and 700 pm thermal tuning with 100 mW output power. Application accepted by Commissioner of Customs:September 1, 2006.

Docket Number: 06-059. Applicant: Rutgers University, 3 Rutgers Plaza, Brunswick, NJ 08901-8559. Instrument: Micro-dissecting Microscope. Manufacturer: Singer Instruments, UK. Intended Use: The instrument is intended to be used to identify and categorize genes that control DNA replication and repair using a simple model organism known as baker's yeast. Strains of yeast-bearing mutations in genes that control the repair of damage in DNA and their genetic pathway will be studied. The instrument is a motorized micromanipulator specifically designed to separate single aspo-spores of yeast. It will also be used for student instruction in these areas. Application accepted by Commissioner of Customs: October 19, 2006.

Docket Number: 06-067. Applicant: The University of Illinois, 212 Tech Plaza, 616 East Green St., Champaign, IL 61820. Instrument: Ti: Sapphire Lasers (2), Model TIS-SF-077s. Manufacturer: Tekhnoscan, Russia. Intended Use: The lasers are intended to be used to study the application of ultra-cold atom gases to quantum simulation. They will be used to create an optical lattice, and part of a system for driving stimulated Raman transitions which will be integrated into a complex experimental apparatus requiring a CW, single-frequency, tunable Ti: sapphire ring laser with linewidth < 100 kHz, drift rate < 50 MHz/hour, locked to an external reference cavity, and completely reconfigurable for phase-locking optics and electronics with low drift rates since they will not be locked to a spectroscopic reference. Application accepted by Commissioner of Customs: November 20, 2006.

Docket Number: 07-005. Applicant: Millersville University, Physics Department, P.O. Box 1002, Millersville PA 17551. Instrument: HeNe Laser Cavity Educational Kit, Model CA-1200. Manufacturer: MICOS GmbH, Germany. Intended Use: The instrument is intended to be used in the lab portion of a course on optics for instruction on the physical principles and the components of a laser. Students will use the kit to build a He-Ne Laser themselves and study the role of different optical elements in the lasing effect. Lab studies will include intensity distribution, Gaussian beam, polarization, divergence, coherence monochromatism and other properties of light. Application accepted by Commissioner of Customs: January 17, 2007.

Docket Number: 07-007. Applicant: Illinois Institute of Technology, 10 W. 33rd St., Room 224, Chicago, IL 60616. Instrument: High Temperature Nano Test System. Manufacturer:Micro Materials, Ltd., UK. Intended Use: The instrument is intended to be used to assess the mechanical properties of Ni-base alloys at elevated temperatures. Nano indentation tests will be conducted on the specimens at a range of temperatures from room temperature to 750 C to assess the hardness and modulus of the Ni-base alloys. These tests will permit evaluation of the characteristic mechanical properties of the constituent phases present in experimental Ni-base alloys and contribute to the development of new high temperature materials. The instrument requires a unique, horizontally-designed pendulum indenter to allow testing of specimens at temperatures in excess of 750 C. Application accepted by Commissioner of Customs: January 23, 2007.

Docket Number: 07-0011. Applicant: State University of New York, Stony Brook University, Stony Brook, NY 11794. Instrument: Low-level Beta Multicounter System. Manufacturer:Riso National Laboratory, Denmark. Intended Use: The instrument is intended to be used to measure emissions from very small quantities of naturally occurring, dissolved radioactive isotopes of thorium and lead in seawater which are attached to particulate matter in very small quantities. Samples of the isotopes are taken at various depths and serve as tracers of the movement of carbon to the deep, an important process that affects the biological cycle of the ocean as well as the carbon content of the atmosphere and is important for understanding climate change. The instrument will also be used for graduate education. This is the only beta detector that meets the requirements of five simultaneous measurements with extremely low background count rates of 0.2 cpm. It is also capable of field use in harsh environments. Application accepted by Commissioner of Customs: February 23, 2007.

Docket Number: 07-012. Applicant: University of Wisconsin, 750 University Ave., Madison, WI 53706-1490. Instrument:Real-time 3D Motion Capture System. Manufacturer: Phoenix Technologies, Inc., Canada. Intended Use: The instrument is intended to be used to measure limb movements of monkey subjects performing reach-to-grasp tasks. Electrical signals derived from individual brain cells will be correlated with parameters of movement in order to determine how information is encoded in the signals that the brain uses to communicate with the muscles. This research is relevant to neuro-prosthetics, spinal chord injury, stroke and motor rehabilitation. The dimensions of the testing chamber require that the infra red position markers can operate at a minimum distance of 0.6 m. Application accepted by Commissioner of Customs: March 5, 2007.

Faye Robinson,
Director, Statutory Import Programs Staff, Import Administration.

[FR Doc. E7-7928 Filed 4-24-07; 8:45 am]

BILLING CODE 3510-DS-P